DEPARTMENT OF DEFENSE

Department of the Navy

[Docket ID: USN-2022-HQ-0020]

Proposed Collection; Comment Request

AGENCY: Department of the Navy, Department of Defense (DoD).

ACTION: 60-day information collection notice.

SUMMARY: In compliance with the Paperwork Reduction Act of 1995, the Navy Personnel Command announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Navy Personnel Command (PERS-13), 5720 Integrity Dr., Millington, TN 38011, ATTN: Mr. Al Gorski, or call 901-874-4559.

SUPPLEMENTARY INFORMATION:

Title; Associated Form; and OMB Number: Consent to Release Personal Information; OPNAV Form 1770/1, OPNAV Form 1770/2, OPNAV Form 1770/3; OMB Control Number 0703-0076.

Needs and Uses: The information is collected from the next of kin (NOK) and other beneficiaries following the death of a Navy Sailor. Basic contact information is passed to members of Congress and the White House (when consent is granted) for use in condolence activity. This and additional information collected is necessary to review, certify, and process payment of benefits awarded to designated NOK and other beneficiaries following the death. The form gathers data necessary to facilitate direct payment of benefits through the Defense Finance and Accounting Agency (DFAS), arrange travel to memorial and funeral services through the Defense Travel System (DTS), and to process travel claims submitted post-travel through DTS to DFAS. Data on the form is used solely for these functions.

Affected Public: Individuals or households.

Annual Burden Hours: 1,300.

Number of Respondents: 800.

Responses per Respondent: 2.5.

Annual Responses: 2,000.

Average Burden per Response: 39 minutes.

Frequency: As required.

Dated: June 15, 2022.
Aaron T. Siegel,
Alternate OSD Federal Register Liaison Officer, Department of Defense.

[FR Doc. 2022-13256 Filed 6-21-22; 8:45 am]

BILLING CODE 5001-06-P